DEPARTMENT OF ENERGY

Federal Energy Regulatory Commission

[Docket No. RP02-13-000]

Portland Natural Gas Transmission System; Notice of Proposed Changes in FERC Gas Tariff

October 4, 2001.

Take notice that on October 1, 2001, Portland Natural Gas Transmission System (PNGTS) tendered for filing as part of its FERC Gas Tariff, Original Volume No. 1, First Revised Sheet No. 100, to become effective on November 1, 2001.

PNGTS states that the proposed changes would increase revenues from jurisdictional service by approximately $66.0 million based on the 12-month period ending June 30, 2001, as adjusted.

PNGTS states that this is its first general rate change filing since completion of the pipelines construction in March of 1999. PNGTS further states that the proposed rate increase is necessary to: recover the actual costs of constructing the pipeline; recover various increases in operation and maintenance expenses, taxes, and other costs; reflect a change to the depreciation rate for general plant; commence recovery of negative salvage costs; reflect the discontinuation of deferrals for the regulatory asset associated with the prior rate levelization; and allow PNGTS to earn an adequate return on its investment.

PNGTS states that copies of this filing are being served on all jurisdictional customers, applicable state commissions, and interested parties that have requested service.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25515 Filed 10-10-01; 8:45 am]

BILLING CODE 6717-01-P